DEPARTMENT OF EDUCATION

Notice of Submission for OMB Review

AGENCY: Department of Education.

ACTION: Comment request.

SUMMARY: The Director, Information Collection Clearance Division, Privacy, Information and Records Management Services, Office of Management, invites comments on the submission for OMB review as required by the Paperwork Reduction Act of 1995 (Pub. L. 104-13).

DATES: Interested persons are invited to submit comments on or before July 20, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: June 15, 2011.
Darrin A. King,
Director, Information Collection Clearance Division, Privacy, Information and Records Management Services, Office of Management.

Institute of Education Sciences

Type of Review: Revision

Title of Collection: National Assessment of Educational Progress (NAEP) 2012 Wave II (Grade 4/8/12 Pilots, Grade 12 Economics, SD, ELL, and Special Studies)

OMB Control Number: 1850-0790

Agency Form Number(s): N/A

Frequency of Responses: Once

Affected Public: Individuals or household

Total Estimated Number of Annual Responses: 35,955

Total Estimated Annual Burden Hours: 14,603

Abstract: The National Assessment of Educational Progress (NAEP) is a federally authorized survey of student achievement at grades 4, 8, and 12 in various subject areas, such as mathematics, reading, writing, science, U.S. history, civics, geography, economics, and the arts. NAEP consists of two assessment programs: the NAEP Long-Term Trend (LTT) assessment and the main NAEP assessment. In 2012, both types of assessments will be delivered. The approved Wave 1 clearance package contained materials related to the LTT assessment. The Wave 2 submittal seeks approval for the following components of the 2012 assessments (specifically related to the noncognitive, background questions):

—Economics (national only at grade 12)

—Writing pilot (national only at grade 4; computer delivered)

—Reading pilot (national at grade 12)

—Mathematics pilot (national at grade 12)

—Student Core Background pilot (at grades 4 and 12, and at age 13)

—Teacher Core Background pilot (at grade 4, age 13)

—School Core Background pilot (at grades 4 and 12,and at age 13)

—SD and ELL worksheets—completed by teachers or administrators of students identified as SD and/or as ELL (both main NAEP and LTT)

—Special Pilot Study to evaluate the new SD and ELL Decision Tree, based on the new SD and ELL policy established by the Governing Board (at ages 9 and 13 LTT)

—Special Study to evaluate use of MP-3 players for administering read-aloud accommodations (will include Background Questions from 2011 Mathematics assessment).

Copies of the information collection submission for OMB review may be accessed from the RegInfo.gov Web site at http://www.reginfo.gov/public/do/PRAMain or from the Department's Web site at http://edicsweb.ed.gov, by selecting the “Browse Pending Collections” link and by clicking on link number 4643. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-15291 Filed 6-17-11; 8:45 am]

BILLING CODE 4000-01-P